DEPARTMENT OF ENERGY

Federal Energy Regulatory Commission

[Project No. 184-065 California]

El Dorado Irrigation District; Notice of Public Meetings

July 1, 2002.

The Federal Energy Regulatory Commission (Commission) is reviewing the application for a new license for the El Dorado Project (FERC No. 184), filed on February 22, 2000. The El Dorado Project, licensed to the El Dorado Irrigation District (EID), is located on the South Fork American River, in El Dorado, Alpine, and Amador Counties, California. The project occupies lands of the El Dorado National Forest.

The EID, several state and federal agencies, and several non-governmental agencies have asked the Commission for time to work collaboratively with a facilitator to resolve certain issues relevant to this proceeding. These meetings are a part of that collaborative process.

On Monday, July 8, the aquatics-hydrology workgroup will meet from 9:00am until 4:00pm. On Tuesday, July 9, meetings will be held as follows:

Recreation Workgroup 9 am—12 noon

Terrestrial Workgroup 1 pm—4 pm

The workgroup meetings will focus on reviewing study results and the development of management objectives. We invite the participation of all interested governmental agencies, non-governmental organizations, and the general public in these meetings.

All meetings will be held in the Rancho Cordova Holiday Inn, located at 11131 Folsom Blvd, Rancho Cordova, California.

For further information, please contact Elizabeth Molloy at (202) 208-0771 or John Mudre at (202) 219-1208.

Linwood A. Watson, Jr.,
Deputy Secretary.

[FR Doc. 02-16970 Filed 7-5-02; 8:45 am]

BILLING CODE 6717-01-P